FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicants

Pacheco Express Shipping, Inc., 1570 Webster Avenue, Bronx, NY 10457.

Officers: Luis Hernandez, President, (Qualifying Individual), Niveka Rivera, Vice President.

Jade Sky Logistics Corp., 75 O'Neill Avenue, Bayshore, NY 11706.

Officer: Sidney Rosario, President, (Qualifying Individual).

AE Eagle Logistic Inc., 1145 N. Ellis Avenue, Bensenville, IL 60106.

Officers: Neal Lieu, Secretary, (Qualifying Individual), Ilton Cheung, President.

Menuet Maritime Services, Inc. dba Gbox Worldwide, 16714 Flamingo Way, Galveston, TX 77554.

Officers: Walter H. Menuet, President, (Qualifying Individual), Yvonne S. Menuet, Vice President.

Non-Vessel-Operating Common Carrier and Ocean Freight Forwarder Transportation Intermediary Applicant

Customs & Logistics International Corp., 6555 NW., 36th Street, Suite #15, Miami, FL 33166.

Officer: Carlos A. Francisco, President, (Qualifying Individual).

Dated: July 22, 2005.
Karen V. Gregory,
Assistant Secretary.

[FR Doc. 05-14862 Filed 7-26-05; 8:45 am]

BILLING CODE 6730-01-P